ENVIRONMENTAL PROTECTION AGENCY

40 CFR Part 63

[EPA-HQ-OAR-2005-0526; FRL-8508-6]

RIN 2060-AN21

National Emission Standards for Hazardous Air Pollutants: Paint Stripping and Miscellaneous Surface Coating Operations at Area Sources

Correction

In rule document E7-24718 beginning on page 1738 in the issue of Wednesday, January 9, 2008, make the following corrections:

§ 63.11173 [Corrected]

1. On page 1761, in the second column, in § 63.11173(b), in the seventh line from the bottom, “more” should read “less”.

2. On the same page, in the same column, in the same section, in the same paragraph, in the fifth line from the bottom, “management practices” should read “requirements”.

[FR Doc. Z7-24718 Filed 2-12-08; 8:45 am]

BILLING CODE 1505-01-D

ENVIRONMENTAL PROTECTION AGENCY

40 CFR Part 75

[EPA-HQ-OAR-2005-0132; FRL-8511-1]

RIN 2060-AN16

Revisions to the Continuous Emissions Monitoring Rule for the Acid Rain Program, NOx Budget Trading Program, Clean Air Interstate Rule, and the Clean Air Mercury Rule

Correction

In rule document E7-25071 beginning on page 4312 in the issue of Thursday, January 24, 2008 make the following correction:

Appendix F to Part 75 [Corrected]

On page 4373, the equation should read as set forth below:

[FR Doc. Z7-25071 Filed 2-12-08; 8:45 am]

BILLING CODE 1505-01-D

ENVIRONMENTAL PROTECTION AGENCY

40 CFR Part 97

[EPA-R05-OAR-2007-0390; FRL-8519-6]

Approval and Promulgation of Air Quality Implementation Plans; Ohio; Clean Air Interstate Rule

Correction

In rule document E8-1804 beginning on page 6034 in the issue of Friday, February 1, 2008, make the following corrections:

Appendix A to Subpart IIII of Part 97 [Corrected]

1. On page 6041, in the first column, in amendatory instruction 8, in the first line, “Appendix A to Subpart IV” should read “Appendix A to Subpart IIII”.

2. On the same page, in the same column, in the last appendix heading, in the first line, “Appendix A to Subpart IV of Part 97” should read “Appendix A to Subpart IIII of Part 97”.

[FR Doc. Z8-1804 Filed 2-12-08; 8:45 am]

BILLING CODE 1505-01-D

DEPARTMENT OF TRANSPORTATION

National Highway Traffic Safety Administration

49 CFR Part 563

[Docket No. NHTSA-2008-0004]

RIN 2127-AK12

Event Data Recorders

Correction

In rule document E8-407 beginning on page 2168 in the issue of Monday, January 14, 2008, make the following correction:

§563.7 [Corrected]

On page 2182, in §563.7(b), Table II is corrected to read as follows:

TABLE II.—Data Elements Required for Vehicles Under Specified Minimum Conditions
Data element name | Condition for requirement | Recording interval/time ¹ (relative to time zero) | Data sample rate (per second)
Lateral acceleration | If recorded ² | 0 to 250 ms | 100
Longitudinal acceleration | If recorded | 0 to 250 ms | 100
Normal acceleration | If recorded | 0 to 250 ms | 100
Delta-V, lateral | If recorded | 0 to 250 ms, or 0 to End of Event Time plus 30 ms, whichever is shorter | 100
Maximum delta-V, lateral | If recorded | 0 to 300 ms, or 0 to End of Event Time plus 30 ms, whichever is shorter | N/A
Time, maximum delta-V, lateral | If recorded | 0 to 300 ms, or 0 to End of Event Time plus 30 ms, whichever is shorter | N/A
Time, maximum delta-V, resultant | If recorded | 0 to 300 ms, or 0 to End of Event Time plus 30 ms, whichever is shorter | N/A
Engine RPM | If recorded | -5.0 to 0 sec | 2
Vehicle roll angle | If recorded | -1.0 up to 5.0 sec ³ | 10
ABS activity (engaged, non-engaged) | If recorded | -5.0 to 0 sec | 2
Stability control (on, off, engaged) | If recorded | -5.0 to 0 sec | 2
Steering input | If recorded | -5.0 to 0 sec | 2
Safety belt status, right front passenger (buckled, not buckled) | If recorded | -1.0 sec | N/A
Frontal air bag suppression switch status, right front passenger (on, off, or auto) | If recorded | -1.0 sec | N/A
Frontal air bag deployment, time to nth stage, driver ⁴ | If equipped with a driver's frontal air bag with a multi-stage inflator | Event | N/A
Frontal air bag deployment, time to nth stage, right front passenger ⁴ | If equipped with a right front passenger's frontal air bag with a multi-stage inflator | Event | N/A
Frontal air bag deployment, nth stage disposal, driver, Y/N (whether the nth stage deployment was for occupant restraint or propellant disposal purposes) | If recorded | Event | N/A
Frontal air bag deployment, nth stage disposal, right front passenger, Y/N (whether the nth stage deployment was for occupant restraint or propellant disposal purposes) | If recorded | Event | N/A
Side air bag deployment, time to deploy, driver | If recorded | Event | N/A
Side air bag deployment, time to deploy, right front passenger | If recorded | Event | N/A
Side curtain/tube air bag deployment, time to deploy, driver side | If recorded | Event | N/A
Side curtain/tube air bag deployment, time to deploy, right side | If recorded | Event | N/A
Pretensioner deployment, time to fire, driver | If recorded | Event | N/A
Pretensioner deployment, time to fire, right front passenger | If recorded | Event | N/A
Seat track position switch, foremost, status, driver | If recorded | -1.0 sec | N/A
Seat track position switch, foremost, right front passenger | If recorded | -1.0 sec | N/A
Occupant size classification, driver | If recorded | -1.0 sec | N/A
Occupant size classification, right front passenger | If recorded | -1.0 sec | N/A
Occupant position classification, driver | If recorded | -1.0 sec | N/A
Occupant position classification, right front passenger | If recorded | -1.0 sec | N/A
¹ Pre-crash data and crash data are asynchronous The sample time accuracy requirement for pre-crash time is -0.1 to 1.0 sec (e.g., T = -1 would need to occur between -1.1 and 0 seconds)
² “If recorded” means if the data is recorded in non-volatile memory for the purpose of subsequent downloading
³ “Vehicle roll angle” may be recorded in any time duration -1.0 to 5.0 seconds is suggested
⁴ List this element n—1 times, once for each stage of a multi-stage air bag system

[FR Doc. Z8-407 Filed 2-12-08; 8:45 am]

BILLING CODE 1505-01-D